DEPARTMENT OF LABOR

Employment and Training Administration

[TA-W-52,835]

Southeastern Adhesives Company, Lenoir, NC; Notice of Revised Determination on Reopening

On November 10, 2003, the Department, on its own motion, reopened its investigation for the former workers of the subject firm.

The initial investigation was initiated on September 12, 2003, and resulted in a negative determination issued on October 21, 2003. The investigation findings showed that workers of the subject firm did not supply at least 20 percent of production or sales to a firm that employed a group of workers who received a certification of eligibility to apply for trade adjustment assistance (TAA). Consequently, workers of Southeastern Adhesives Company, Lenoir, North Carolina, could not be certified as a secondarily affected worker group. The denial notice was published in the Federal Register on November 6, 2003 (68 FR 62832).

The Department has obtained new information showing that the subject firm supplied adhesives to a furniture manufacturer whose workers were certified eligible to apply for TAA and the loss of business contributed importantly to worker separations at the Lenoir, North Carolina plant.

Conclusion

After careful consideration of the facts obtained on reopening, I determine that workers of Southeastern Adhesives Company, Lenoir, North Carolina, qualify as adversely affected secondary workers under Section 222 of the Trade Act of 1974, as amended.

In accordance with the provisions of the Act, I make the following revised determination:

All workers of Southeastern Adhesives Company, Lenoir, North Carolina, who became totally or partially separated from employment on or after September 2, 2002, through two years from the date of certification, are eligible to apply for adjustment assistance under Section 223 of the Trade Act of 1974.

Signed in Washington, DC this 17th day of November 2003.
Linda G. Poole,
Certifying Officer, Division of Trade Adjustment Assistance.

[FR Doc. 03-29682 Filed 11-26-03; 8:45 am]

BILLING CODE 4510-30-P